DEPARTMENT OF LABOR

Employment and Training Administration

[TA-W-65,511]

FMC Manufacturing, LLC; Monmouth, IL; Notice of Termination of Investigation

Pursuant to Section 221 of the Trade Act of 1974, as amended, an investigation was initiated on March 6, 2009 in response to a petition filed on behalf of workers of FMC Manufacturing, LLC, Monmouth, Illinois.

The petitioner has requested that the petition be withdrawn. Therefore, the investigation under this petition has been terminated.

Signed at Washington, DC, this 15th day of April, 2009.
Linda G. Poole,
Certifying Officer, Division of Trade Adjustment Assistance.

[FR Doc. E9-10910 Filed 5-8-09; 8:45 am]

BILLING CODE 4510-FN-P